DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on March 22, 2019. See Supplementary Information for relevant dates.

FOR FURTHER INFORMATION CONTACT: OFAC: Associate Director for Global Targeting, 202-622-2420; Assistant Director for Licensing, 202-622-2480; or Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On March 22, 2019, OFAC determined that the property and interests in property subject to U.S. jurisdiction of the following persons are blocked under the relevant sanctions authorities listed below.

Individuals

1. ASGARI, Mansur, Iran; DOB 03 Jun 1958; POB Tehran, Iran; nationality Iran; Additional Sanctions Information—Subject to Secondary Sanctions; Gender Male; Passport A4249926 (Iran) (individual) [NPWMD] [IFSR] (Linked To: THE ORGANIZATION OF DEFENSIVE INNOVATION AND RESEARCH).

Designated pursuant to section 1(a)(iv) of Executive Order 13382 of June 28, 2005, “Blocking Property of Weapons of Mass Destruction Proliferators and Their Supporters,” 70 FR 38567, 3 CFR, 2005 Comp., p. 170 (E.O. 13382), for acting or purporting to act for or on behalf of, directly or indirectly, THE ORGANIZATION OF DEFENSIVE INNOVATION AND RESEARCH, a person whose property and interests in property are blocked pursuant to E.O. 13382.

2. ATTARAN, Mohammad Mahdi Da'emi (a.k.a. ATTARAN, Mahdi; a.k.a. ATTARAN, Mohammad Mahdi); DOB 13 Jul 1979; POB Mashhad, Iran; nationality Iran; Additional Sanctions Information—Subject to Secondary Sanctions; Gender Male (individual) [NPWMD] [IFSR] (Linked To: PUYA ELECTRO SAMAN NIRU).

Designated pursuant to section 1(a)(iv) of E.O. 13382 for acting or purporting to act for or on behalf of, directly or indirectly, PUYA ELECTRO SAMAN NIRU, a person whose property and interests in property are blocked pursuant to E.O. 13382.

3. BARMI, Ruhollah Ghaderi, Iran; DOB 1979; nationality Iran; Additional Sanctions Information—Subject to Secondary Sanctions; Gender Male (individual) [NPWMD] [IFSR] (Linked To: SHAHID FAKHAR MOGHADDAM GROUP).

Designated pursuant to section 1(a)(iv) of E.O. 13382 for acting or purporting to act for or on behalf of, directly or indirectly, SHAHID FAKHAR MOGHADDAM GROUP, a person whose property and interests in property are blocked pursuant to E.O. 13382.

4. BORJI, Sa'id, Tehran, Iran; DOB 1958; POB Abadan, Iran; nationality Iran; Additional Sanctions Information—Subject to Secondary Sanctions; Gender Male; Passport F20784822 (Iran) (individual) [NPWMD] [IFSR] (Linked To: SHAHID KARIMI GROUP).

Designated pursuant to section 1(a)(iii) of E.O. 13382 for having provided, or attempted to provide, financial, material, technological or other support for, or goods or services in support of, SHAHID KARIMI GROUP, a person whose property and interests in property are blocked pursuant to E.O. 13382.

5. ETA'ATI, Gholam Reza; DOB 1973; POB Tehran, Iran; nationality Iran; Additional Sanctions Information—Subject to Secondary Sanctions; Gender Male (individual) [NPWMD] [IFSR] (Linked To: THE ORGANIZATION OF DEFENSIVE INNOVATION AND RESEARCH).

Designated pursuant to section 1(a)(iv) of E.O. 13382 for acting or purporting to act for or on behalf of, directly or indirectly, THE ORGANIZATION OF DEFENSIVE INNOVATION AND RESEARCH, a person whose property and interests in property are blocked pursuant to E.O. 13382.

6. HAGHIGHIAN, Mohammad Hossein, Iran; DOB 1989; nationality Iran; Additional Sanctions Information—Subject to Secondary Sanctions; Gender Male (individual) [NPWMD] [IFSR] (Linked To: KIMIYA PAKHSH SHARGH).

Designated pursuant to section 1(a)(iv) of E.O. 13382 for acting or purporting to act for or on behalf of, directly or indirectly, KIMIYA PAKHSH SHARGH, a person whose property and interests in property are blocked pursuant to E.O. 13382.

7. HAJJLU, Jalal Emami Ghareh (a.k.a. HAJLOU, Jalal Emami Ghareh); DOB 21 Mar 1969; POB Gha'emshahr, Iran; nationality Iran; Additional Sanctions Information—Subject to Secondary Sanctions; Gender Male; Passport 2161567098 (individual) [NPWMD] [IFSR] (Linked To: SHAHID KARIMI GROUP).

Designated pursuant to section 1(a)(iii) of E.O. 13382 for having provided, or attempted to provide, financial, material, technological or other support for, or goods or services in support of, SHAHID KARIMI GROUP, a person whose property and interests in property are blocked pursuant to E.O. 13382.

8. HASHEMITABAR, Sayyed Asghar; DOB 23 Aug 1974; POB Sabzevar, Iran; nationality Iran; Additional Sanctions Information—Subject to Secondary Sanctions; Passport A30439933 (individual) [NPWMD] [IFSR] (Linked To: THE ORGANIZATION OF DEFENSIVE INNOVATION AND RESEARCH).

Designated pursuant to section 1(a)(iv) of E.O. 13382 for acting or purporting to act for or on behalf of, directly or indirectly, THE ORGANIZATION OF DEFENSIVE INNOVATION AND RESEARCH, a person whose property and interests in property are blocked pursuant to E.O. 13382.

9. MASOUMIAN, Mehdi (a.k.a. MASUMIAN, Mahdi), Iran; nationality Iran; Additional Sanctions Information—Subject to Secondary Sanctions; Gender Male; National ID No. 0491942168 (Iran) (individual) [NPWMD] [IFSR] (Linked To: THE ORGANIZATION OF DEFENSIVE INNOVATION AND RESEARCH).

Designated pursuant to section 1(a)(iv) of E.O. 13382 for acting or purporting to act for or on behalf of, directly or indirectly, THE ORGANIZATION OF DEFENSIVE INNOVATION AND RESEARCH, a person whose property and interests in property are blocked pursuant to E.O. 13382.

10. MEHDIPUR, Mohammad Reza; DOB 06 Aug 1975; POB Naein, Iran; nationality Iran; Additional Sanctions Information—Subject to Secondary Sanctions; Gender Male; National ID No. 1249481643 (Iran) (individual) [NPWMD] [IFSR] (Linked To: SHAHID KARIMI GROUP).

Designated pursuant to section 1(a)(iv) of E.O. 13382 for acting or purporting to act for or on behalf of, directly or indirectly, SHAHID KARIMI GROUP, a person whose property and interests in property are blocked pursuant to E.O. 13382.

11. MOTALLEBIZADEH, Akbar; DOB 23 Jul 1963; POB Yazd, Iran; nationality Iran; Additional Sanctions Information—Subject to Secondary Sanctions; Gender Male; Passport R14123444 (individual) [NPWMD] [IFSR] (Linked To: SHAHID KARIMI GROUP).

Designated pursuant to section 1(a)(iii) of E.O. 13382 for having provided, or attempted to provide, financial, material, technological or other support for, or goods or services in support of, SHAHID KARIMI GROUP, a person whose property and interests in property are blocked pursuant to E.O. 13382.

12. SAFARI, Mohammad Javad, Tehran, Iran; DOB 07 Aug 1980; POB Borazjam, Dashtestan, Bushehr, Iran; Additional Sanctions Information—Subject to Secondary Sanctions; Gender Male; Passport G9345199 (Iran) (individual) [NPWMD] [IFSR] (Linked To: SHAHID FAKHAR MOGHADDAM GROUP).

Designated pursuant to section 1(a)(iii) of E.O. 13382 for having provided, or attempted to provide, financial, material, technological or other support for, or goods or services in support of, SHAHID FAKHAR MOGHADDAM GROUP, a person whose property and interests in property are blocked pursuant to E.O. 13382.

13. SHAFA'I, Mohsen; DOB 1971; POB Tehran, Iran; nationality Iran; Additional Sanctions Information—Subject to Secondary Sanctions; Gender Male (individual) [NPWMD] [IFSR] (Linked To: PUYA ELECTRO SAMAN NIRU).

Designated pursuant to section 1(a)(iv) of E.O. 13382 for acting or purporting to act for or on behalf of, directly or indirectly, PUYA ELECTRO SAMAN NIRU, a person whose property and interests in property are blocked pursuant to E.O. 13382.

Entities

1. ABU REIHAN GROUP, Iran; Additional Sanctions Information—Subject to Secondary Sanctions [NPWMD] [IFSR] (Linked To: THE ORGANIZATION OF DEFENSIVE INNOVATION AND RESEARCH).

Designated pursuant to section 1(a)(iii) of E.O. 13382 for having provided, or attempted to provide, financial, material, technological or other support for, or goods or services in support of, THE ORGANIZATION OF DEFENSIVE INNOVATION AND RESEARCH, a person whose property and interests in property are blocked pursuant to E.O. 13382.

2. BU ALI GROUP (a.k.a. BOALI GROUP), Iran; Additional Sanctions Information—Subject to Secondary Sanctions [NPWMD] [IFSR] (Linked To: THE ORGANIZATION OF DEFENSIVE INNOVATION AND RESEARCH).

Designated pursuant to section 1(a)(iv) of E.O. 13382 for being owned or controlled by, or acting or purporting to act for or on behalf of, directly or indirectly, THE ORGANIZATION OF DEFENSIVE INNOVATION AND RESEARCH, a person whose property and interests in property are blocked pursuant to E.O. 13382.

3. HEIDAR KARAR GROUP (a.k.a. HAYDAR KARAR CENTER; a.k.a. HEIDAR KARRAR RESEARCH GROUP), Iran; Additional Sanctions Information—Subject to Secondary Sanctions [NPWMD] [IFSR] (Linked To: THE ORGANIZATION OF DEFENSIVE INNOVATION AND RESEARCH).

Designated pursuant to section 1(a)(iv) of E.O. 13382 for being owned or controlled by, or acting or purporting to act for or on behalf of, directly or indirectly, THE ORGANIZATION OF DEFENSIVE INNOVATION AND RESEARCH, a person whose property and interests in property are blocked pursuant to E.O. 13382.

4. KIMIYA PAKHSH SHARGH (a.k.a. KIMIA PAKHSH SHARGH; a.k.a. KIMIYA PAKHSH SHARGH CO. LTD; a.k.a. KIMIYA PAKHSH SHARGH GROUP; a.k.a. “KIMIA”; a.k.a. “KIMIA CO., LTD.”), No. 6, West Zartosht Ave, Between Joybar & Valiasr, Tehran, Iran; West Zoroaster, Between Joybar and Valiasr, No. 6, Box: 42670, Tehran, Iran; First Floor, No. 10, The 11th Alley, Prideful Streets, Martyr Beheshti, Sarafraz Street, Beheshti Avenue, Tehran, Iran; No. 1, Next to Mehr Credit Institute, Zartosht Street, Tehran 1415863911, Iran; website https://kps-co.com; alt. Website www.kps-co.com; Additional Sanctions Information—Subject to Secondary Sanctions; National ID No. 10102179854 (Iran); Registration Number 175612 (Iran) [NPWMD] [IFSR] (Linked To: THE ORGANIZATION OF DEFENSIVE INNOVATION AND RESEARCH).

Designated pursuant to section 1(a)(iv) of E.O. 13382 for being owned or controlled by, or acting or purporting to act for or on behalf of, directly or indirectly, THE ORGANIZATION OF DEFENSIVE INNOVATION AND RESEARCH, a person whose property and interests in property are blocked pursuant to E.O. 13382.

5. PARADISE MEDICAL PIONEERS COMPANY, 4th Floor, Number 4, Ziba Alley, below the Zafar Gas Station, Shariati Street, Tehran, Iran; Additional Sanctions Information—Subject to Secondary Sanctions [NPWMD] [IFSR] (Linked To: THE ORGANIZATION OF DEFENSIVE INNOVATION AND RESEARCH).

Designated pursuant to section 1(a)(iv) of E.O. 13382 for being owned or controlled by, or acting or purporting to act for or on behalf of, directly or indirectly, THE ORGANIZATION OF DEFENSIVE INNOVATION AND RESEARCH, a person whose property and interests in property are blocked pursuant to E.O. 13382.

6. PUYA ELECTRO SAMAN NIRU (a.k.a. PULSE NIRU; a.k.a. PULSE NIRU CO.; a.k.a. PULSE NIRU INDUSTRIES; a.k.a. PULSENIRU INC.), 34 Ayazi Alley Morghab Street, Khoramashar Street, Tehran 1553633913, Iran; km 20 Damavand Road, Pardis Technologies Park, Noavari Fourth Avenue, No. 46, Tehran, Iran; website http://pulseniru.com; Additional Sanctions Information—Subject to Secondary Sanctions [NPWMD] [IFSR] (Linked To: THE ORGANIZATION OF DEFENSIVE INNOVATION AND RESEARCH).

Designated pursuant to section 1(a)(iii) of E.O. 13382 for having provided, or attempted to provide, financial, material, technological or other support for, or goods or services in support of, THE ORGANIZATION OF DEFENSIVE INNOVATION AND RESEARCH, a person whose property and interests in property are blocked pursuant to E.O. 13382.

7. SADRA RESEARCH CENTER (a.k.a. SADRA CENTER), Iran; Additional Sanctions Information—Subject to Secondary Sanctions [NPWMD] [IFSR] (Linked To: THE ORGANIZATION OF DEFENSIVE INNOVATION AND RESEARCH).

Designated pursuant to section 1(a)(iv) of E.O. 13382 for being owned or controlled by, or acting or purporting to act for or on behalf of, directly or indirectly, THE ORGANIZATION OF DEFENSIVE INNOVATION AND RESEARCH, a person whose property and interests in property are blocked pursuant to E.O. 13382.

8. SHAHID AVINI GROUP, Iran; Additional Sanctions Information—Subject to Secondary Sanctions [NPWMD] [IFSR] (Linked To: THE ORGANIZATION OF DEFENSIVE INNOVATION AND RESEARCH).

Designated pursuant to section 1(a)(iv) of E.O. 13382 for being owned or controlled by, or acting or purporting to act for or on behalf of, directly or indirectly, THE ORGANIZATION OF DEFENSIVE INNOVATION AND RESEARCH, a person whose property and interests in property are blocked pursuant to E.O. 13382.

9. SHAHID BABA'I GROUP (a.k.a. SHAHID BABAEI GROUP), Iran; Additional Sanctions Information—Subject to Secondary Sanctions [NPWMD] [IFSR] (Linked To: THE ORGANIZATION OF DEFENSIVE INNOVATION AND RESEARCH).

Designated pursuant to section 1(a)(iv) of E.O. 13382 for being owned or controlled by, or acting or purporting to act for or on behalf of, directly or indirectly, THE ORGANIZATION OF DEFENSIVE INNOVATION AND RESEARCH, a person whose property and interests in property are blocked pursuant to E.O. 13382.

10. SHEIKH BAHA'I SCIENCE AND TECHNOLOGY RESEARCH CENTER (a.k.a. SHEIKH BAHAEI CENTER), Iran; Additional Sanctions Information—Subject to Secondary Sanctions [NPWMD] [IFSR] (Linked To: THE ORGANIZATION OF DEFENSIVE INNOVATION AND RESEARCH). Designated pursuant to section 1(a)(iv) of E.O. 13382 for being owned or controlled by, or acting or purporting to act for or on behalf of, directly or indirectly, THE ORGANIZATION OF DEFENSIVE INNOVATION AND RESEARCH, a person whose property and interests in property are blocked pursuant to E.O. 13382.

11. SHAHID CHAMRAN GROUP, Iran; Additional Sanctions Information—Subject to Secondary Sanctions [NPWMD] [IFSR] (Linked To: THE ORGANIZATION OF DEFENSIVE INNOVATION AND RESEARCH).

Designated pursuant to section 1(a)(iv) of E.O. 13382 for being owned or controlled by, or acting or purporting to act for or on behalf of, directly or indirectly, THE ORGANIZATION OF DEFENSIVE INNOVATION AND RESEARCH, a person whose property and interests in property are blocked pursuant to E.O. 13382.

12. SHAHID FAKHAR MOGHADDAM GROUP (a.k.a. SHAHID FAKHAR MOQADAM GROUP), Iran; Additional Sanctions Information—Subject to Secondary Sanctions [NPWMD] [IFSR] (Linked To: THE ORGANIZATION OF DEFENSIVE INNOVATION AND RESEARCH).

Designated pursuant to section 1(a)(iv) of E.O. 13382 for being owned or controlled by, or acting or purporting to act for or on behalf of, directly or indirectly, THE ORGANIZATION OF DEFENSIVE INNOVATION AND RESEARCH, a person whose property and interests in property are blocked pursuant to E.O. 13382.

13. SHAHID KARIMI GROUP, Iran; Additional Sanctions Information—Subject to Secondary Sanctions [NPWMD] [IFSR] (Linked To: THE ORGANIZATION OF DEFENSIVE INNOVATION AND RESEARCH).

Designated pursuant to section 1(a)(iv) of E.O. 13382 for being owned or controlled by, or acting or purporting to act for or on behalf of, directly or indirectly, THE ORGANIZATION OF DEFENSIVE INNOVATION AND RESEARCH, a person whose property and interests in property are blocked pursuant to E.O. 13382.

14. SHAHID KAZEMI GROUP, Iran; Additional Sanctions Information—Subject to Secondary Sanctions [NPWMD] [IFSR] (Linked To: THE ORGANIZATION OF DEFENSIVE INNOVATION AND RESEARCH).

Designated pursuant to section 1(a)(iv) of E.O. 13382 for being owned or controlled by, or acting or purporting to act for or on behalf of, directly or indirectly, THE ORGANIZATION OF DEFENSIVE INNOVATION AND RESEARCH, a person whose property and interests in property are blocked pursuant to E.O. 13382.

15. SHAHID MOVAHHED DANESH GROUP (a.k.a. SHAHID MOVAHED DANESH GROUP), Iran; Additional Sanctions Information—Subject to Secondary Sanctions [NPWMD] [IFSR] (Linked To: THE ORGANIZATION OF DEFENSIVE INNOVATION AND RESEARCH).

Designated pursuant to section 1(a)(iii) of E.O. 13382 for having provided, or attempted to provide, financial, material, technological or other support for, or goods or services in support of, THE ORGANIZATION OF DEFENSIVE INNOVATION AND RESEARCH, a person whose property and interests in property are blocked pursuant to E.O. 13382.

16. SHAHID SHOKRI SCIENCE AND TECHNOLOGY RESEARCH CENTER (a.k.a. SHAHID SHIKRI CENTER; a.k.a. SHAHID SHOKRI RESEARCH CENTER), Iran; Additional Sanctions Information—Subject to Secondary Sanctions [NPWMD] [IFSR] (Linked To: THE ORGANIZATION OF DEFENSIVE INNOVATION AND RESEARCH).

Designated pursuant to section 1(a)(iv) of E.O. 13382 for being owned or controlled by, or acting or purporting to act for or on behalf of, directly or indirectly, THE ORGANIZATION OF DEFENSIVE INNOVATION AND RESEARCH, a person whose property and interests in property are blocked pursuant to E.O. 13382.

17. SHAHID ZEINODDIN GROUP, Iran; Additional Sanctions Information—Subject to Secondary Sanctions [NPWMD] [IFSR] (Linked To: THE ORGANIZATION OF DEFENSIVE INNOVATION AND RESEARCH).

Designated pursuant to section 1(a)(iii) of E.O. 13382 for having provided, or attempted to provide, financial, material, technological or other support for, or goods or services in support of, THE ORGANIZATION OF DEFENSIVE INNOVATION AND RESEARCH, a person whose property and interests in property are blocked pursuant to E.O. 13382.

Lisa M. Palluconi,
Acting Director, Office of Foreign Assets Control.

[FR Doc. 2025-13592 Filed 7-18-25; 8:45 am]

BILLING CODE 4810-AL-P